COMMITTEE FOR PURCHASE FROM PEOPLE WHO ARE BLIND OR SEVERELY DISABLED

Procurement List; Proposed Addition And Deletions

AGENCY: Committee for Purchase From People Who Are Blind or Severely Disabled.

ACTION: Proposed Addition to and Deletions From Procurement List.

SUMMARY: The Committee is proposing to add to the Procurement List a product to be furnished by nonprofit agencies employing persons who are blind or have other severe disabilities, and to delete products previously furnished by such agencies.

Comments Must be Received on or Before: 4/20/2009.

ADDRESSES: Committee for Purchase From People Who Are Blind or Severely Disabled, Jefferson Plaza 2, Suite 10800, 1421 Jefferson Davis Highway, Arlington, Virginia, 22202-3259.

For Further Information or to Submit Comments Contact: Barry S. Lineback, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed addition, the entities of the Federal Government identified in this notice for each product will be required to procure the product listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product to the Government.

2. If approved, the action will result in authorizing small entities to furnish the product to the Government.

3. There are no known regulatory alternatives which would accomplish the objectives of the Javits-Wagner-O'Day Act (41 U.S.C. 46-48c) in connection with the product proposed for addition to the Procurement List.

Comments on this certification are invited. Commenters should identify the statement(s) underlying the certification on which they are providing additional information.

End of Certification

The following product is proposed for addition to Procurement List for production by the nonprofit agencies listed:

Products

NSN: 7520-01-441-9130—Kit, Fingerprint.

NPA: The Arbor School, Houston, TX.

Contracting Activity: FEDERAL ACQUISITION SERVICE, GSA/FSS OFC SUP CTR—OFFICE EQUIPMENT, NEW YORK, NEW YORK.

COVERAGE: B-List for the broad Government requirement as aggregated by the General Services Administration.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

NSN: 7520-01-557-3151—Antimicrobial, Black Ink.

NSN: 7520-01-557-3154—Antimicrobial, Blue Ink.

NPA: Alphapointe Association for the Blind, Kansas City, MO.

Contracting Activity: GSA/FSS OFC SUP CTR—PAPER PRODUCTS, NEW YORK, NY.

NSN: 7045-01-483-7833—CD Access File.

NPA: Wiscraft Inc.—Wisconsin Enterprises for the Blind, Milwaukee, WI.

Contracting Activity: GSA/FSS OFC SUP CTR—PAPER PRODUCTS, NEW YORK, NY.

NSN: 7510-01-537-7841—DAYMAX, IE/LE Month at a View, 2008, 3-hole.

NSN: 7510-01-537-7847—DAYMAX, IE/LE Week at a View, 2008, 3-hole.

NSN: 7510-01-537-7850—DAYMAX, IE/LE Day at a View, 2008, 3-hole.

NSN: 7510-01-537-7853—DAYMAX, GLE Day at a View, 2008, 7-hole.

NSN: 7510-01-537-7856—DAYMAX, GLE Month at a View, 2008, 7-hole.

NSN: 7510-01-537-7859—DAYMAX, GLE Week at a View, 2008, 7-hole.

NSN: 7510-01-537-7863—DAYMAX, Tabbed Monthly, 2008, 3-hole.

NSN: 7510-01-537-7868—DAYMAX, Tabbed Monthly, 2008, 7-hole.

NSN: 7530-01-537-7837—DAYMAX System, LE, 2008, Black.

NSN: 7530-01-537-7837L—DAYMAX System, LE, 2008, Black w/Logo.

NSN: 7530-01-537-7838—DAYMAX System, IE, 2008, Black.

NSN: 7530-01-537-7838L—DAYMAX System, IE, 2008, Black w/Logo.

NSN: 7530-01-537-7839—DAYMAX System, LE, 2008, Navy.

NSN: 7530-01-537-7839L—DAYMAX System, LE, 2008, Navy w/Logo.

NSN: 7530-01-537-7840—DAYMAX System, LE, 2008, Burgundy.

NSN: 7530-01-537-7840L—DAYMAX System, LE, 2008, Burgundy w/Logo.

NSN: 7530-01-537-7842—DAYMAX System, Desert, Camouflage Planner, 2008.

NSN: 7530-01-537-7842L—DAYMAX System, Desert, Camouflage Planner, 2008 w/Logo.

NSN: 7530-01-537-7843—DAYMAX System, IE, 2008, Navy.

NSN: 7530-01-537-7843L—DAYMAX System, IE, 2008, Navy w/Logo.

NSN: 7530-01-537-7844—DAYMAX System, GLE, 2008, Black.

NSN: 7530-01-537-7844L—DAYMAX System, GLE, 2008, Black w/Logo.

NSN: 7530-01-537-7845—DAYMAX System, JR Version, 2008, Black.

NSN: 7530-01-537-7845L—DAYMAX System, JR Version, 2008, Black w/Logo.

NSN: 7530-01-537-7846—DAYMAX System, IE, 2008, Burgundy.

NSN: 7530-01-537-7846L—DAYMAX System, IE, 2008, Burgundy w/Logo.

NSN: 7530-01-537-7848—DAYMAX System, GLE, 2008, Navy.

NSN: 7530-01-537-7848L—DAYMAX System, GLE, 2008, Navy w/Logo.

NSN: 7530-01-537-7849—DAYMAX System, JR Version, 2008, Navy.

NSN: 7530-01-537-7849L—DAYMAX System, JR Version, 2008, Navy w/Logo.

NSN: 7530-01-537-7852—DAYMAX System, GLE, 2008, Burgundy.

NSN: 7530-01-537-7852L—DAYMAX System, GLE, 2008, Burgundy w/Logo.

NSN: 7530-01-537-7854—DAYMAX System, JR Version, 2008, Burgundy.

NSN: 7530-01-537-7854L—DAYMAX System, JR Version, 2008, Burgundy w/Logo.

NSN: 7530-01-537-7857—DAYMAX System, DOD Planner, 2008.

NSN: 7530-01-537-7857L—DAYMAX System, DOD Planner, 2008 w/Logo.

NSN: 7530-01-537-7864—DAYMAX System, Woodland, Camouflage Planner, 2008.

NSN: 7530-01-537-7864L—DAYMAX System, Woodland Camouflage Planner, 2008 w/Logo.

NPA: The Easter Seal Society of Western Pennsylvania, Pittsburgh, PA.

Contracting Activity: GSA/FSS OFC SUP CTR—PAPER PRODUCTS, NEW YORK, NY.

Barry S. Lineback,
Director, Business Operations.

[FR Doc. E9-6117 Filed 3-19-09; 8:45 am]

BILLING CODE 6353-01-P